ENVIRONMENTAL PROTECTION AGENCY

[EPA-HQ-OPPT-2009-0467; FRL-8424-7]

Lead Wheel Balancing Weights; TSCA Section 21 Petition; Notice of Receipt and Request for Comment

AGENCY: Environmental Protection Agency (EPA).

ACTION: Notice.

SUMMARY: This notice announces that EPA has received a petition under section 21 of the Toxic Substances Control Act (TSCA), and requests comments on issues raised by the petition. The petition was received from the Ecology Center of Ann Arbor, Michigan and the Sierra Club et al., (petitioners) on May 29, 2009. The petition requests that EPA establish regulations prohibiting the manufacture, processing, and distribution in commerce of lead wheel balancing weights. EPA must either grant or deny the petition within 90 days of filing.

DATES: Comments must be received on or before July 30, 2009

ADDRESSES: Submit your comments, identified by docket identification (ID) number EPA-HQ-OPPT-2009-0467, by one of the following methods:

• Federal eRulemaking Portal: http://www.regulations.gov. Follow the on-line instructions for submitting comments.

• Mail: Document Control Office (7407M), Office of Pollution Prevention and Toxics (OPPT), Environmental Protection Agency, 1200 Pennsylvania Ave., NW., Washington, DC 20460-0001.

• Hand Delivery: OPPT Document Control Office (DCO), EPA East Bldg., Rm. 6428, 1201 Constitution Ave., NW., Washington, DC. Attention: Docket ID Number EPA-HQ-OPPT-2009-0467. The DCO is open from 8 a.m. to 4 p.m., Monday through Friday, excluding legal holidays. The telephone number for the DCO is (202) 564-8930. Such deliveries are only accepted during the DCO's normal hours of operation, and special arrangements should be made for deliveries of boxed information.

Instructions: Direct your comments to docket ID number EPA-HQ-OPPT-2009-0467. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket, visit the EPA Docket Center homepage at http://www.epa.gov/epahome/dockets.htm.

Docket: All documents in the docket are listed in the docket index available at http://www.regulations.gov. Although listed in the index, some information is not publicly available, e.g., CBI or other information whose disclosure is restricted by statute. Certain other material, such as copyrighted material, will be publicly available only in hard copy. Publicly available docket materials are available electronically at http://www.regulations.gov, or, if only available in hard copy, at the OPPT Docket. The OPPT Docket is located in the EPA Docket Center (EPA/DC) at Rm. 3334, EPA West Bldg., 1301 Constitution Ave., NW., Washington, DC. The EPA/DC Public Reading Room hours of operation are 8:30 a.m. to 4:30 p.m., Monday through Friday, excluding Federal holidays. The telephone number of the EPA/DC Public Reading Room is (202) 566-1744, and the telephone number for the OPPT Docket is (202) 566-0280. Docket visitors are required to show photographic identification, pass through a metal detector, and sign the EPA visitor log. All visitor bags are processed through an X-ray machine and subject to search. Visitors will be provided an EPA/DC badge that must be visible at all times in the building and returned upon departure.

FOR FURTHER INFORMATION CONTACT: For general information contact: Colby Linter, Regulatory Coordinator, Environmental Assistance Division (7408M), Office of Pollution Prevention and Toxics, Environmental Protection Agency, 1200 Pennsylvania Ave., NW., Washington, DC 20460-0001; telephone number: (202) 554-1404; e-mail address: TSCA-Hotline@epa.gov.

For technical information contact: Mark Henshall, National Program Chemicals Division (7404T), Office Pollution Prevention and Toxics, Environmental Protection Agency, 1200 Pennsylvania Ave., NW., Washington, DC 20460-0001; telephone number: (202) 566-0523; e-mail address: henshall.mark@epa.gov.

SUPPLEMENTARY INFORMATION:

I. General Information

A. Does this Action Apply to Me?

This action is directed to the public in general. This action may, however, be of interest to you if you manufacture, process, distribute or use lead wheel balancing weights or are an automobile tire retailer. Since other entities may also be interested, the Agency has not attempted to describe all the specific entities that may be affected by this action. If you have any questions regarding the applicability of this action to a particular entity, consult the technical person listed under FOR FURTHER INFORMATION CONTACT.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. TSCA Section 21

A. What is a TSCA Section 21 Petition?

Under section 21 of TSCA (15 U.S.C. 2620), any person can petition EPA to initiate a proceeding for the issuance, amendment, or repeal of a rule under TSCA section 4, 6, or 8 or an order under TSCA section 5(e) or 6(b)(2). A TSCA section 21 petition must set forth the facts that are claimed to establish the necessity for the action requested. EPA is required to grant or deny the petition within 90 days of its filing. If EPA grants the petition, the Agency must promptly commence an appropriate proceeding. If EPA denies the petition, the Agency must publish its reasons for the denial in the Federal Register. A petitioner may commence a civil action in a U.S. district court to compel initiation of the requested rulemaking proceeding within 60 days of either a denial or if EPA fails to grant or deny the expiration of the 90-day period.

B. What Criteria Apply to a Decision on a TSCA Section 21 Petition?

Section 21(b)(1) of TSCA requires that the petition “set forth the facts which it is claimed establish that it is necessary” to issue the rule or order requested. 15 U.S.C. 2620(b)(1). Thus, TSCA section 21 implicitly incorporates the statutory standards that apply to the requested actions. In addition, TSCA section 21 establishes standards a court must use to decide whether to order EPA to initiate rulemaking in the event of a lawsuit filed by the petitioner after denial of a TSCA section 21 petition. 15 U.S.C. 2620(b)(4)(B). Accordingly, EPA will refer to the standards in TSCA section 21 and in the provisions under which actions have been requested to evaluate this petition.

III. Summary of TSCA Section 21 Petition Received

A. What Action was Requested?

On May 29, 2009, EPA received a petition from the Ecology Center and the Sierra Club et al., petitioning EPA to establish regulations prohibiting the manufacture, processing, and distribution in commerce of lead wheel balancing weights (“wheel weights”).

The petition and information submitted by the petitioner(s) is included in the docket at http://www.regulations.gov, under EPA-HQ-OPPT-2009-0467.

B. What Support Do the Petitioners Offer?

This petition incorporates by reference a previous petition submitted by the Ecology Center on May 13, 2005 (OPPT-2005-0032) (70 FR 35667, June 21, 2005) (FRL-7720-5), which requested a very similar action. In that petition, the Ecology Center asked EPA to prohibit the manufacturing, processing, distribution in commerce, and use and improper disposal of lead wheel balancing weights. EPA denied that petition on August 8, 2005.

The petitioners note that they have previously highlighted that automobiles are a significant contributor of ongoing lead releases to the environment. The previous petition identified lead wheel balancing weight failure (weights falling off rims into roadways) as one of the largest ongoing releases of lead to the environment. The previous petition also noted that lead is consistently found to be in high concentrations on roadways and in end-of-life, vehicle waste (commonly called Auto Shredder Residue (ASR)). The petitioners also commented that lead wheel balancing weights are the second largest ongoing use of lead in vehicles and play a significant role in the release of lead to the environment.

The petitioners also note that on August 29, 2008 EPA announced its voluntary National Lead-Free Wheel Weight Initiative (NLFWWI). The Initiative's 40 charter members and four subsequent members include every new car manufacturer, four domestic lead wheel balancing weight producers (3M, Hennessy, Perfect, and Plombco), two leading tire manufacturers (Bridgestone Firestone and Goodyear) and major retailers (Bridgestone Firestone, Goodyear, Costco, Wal-Mart, and Sam's Club). These organizations committed in writing to:

• Identify the volume of lead to be eliminated.

• Reduce the use of lead for wheel balancing weights by December 31, 2011.

• Take responsibility for providing information, education, and outreach to the public, regarding the benefits of using lead-free wheel balancing weights.

• Properly collect and recycle used lead wheel balancing weights in their current inventory or acquired through normal business operation.

• Publicly endorse the NLFWWI and encourage the use of lead-free wheel balancing weights by others.

Petitioners cited EPA's National Lead-Free Wheel Weight Initiative web page which states:

• 12.5 million pounds of lead from wheel balancing weight is uncontrolled or unmanaged in the environment.

• 1.6 million pounds of lead is lost when wheel balancing weights fall off during normal driving conditions such as hitting a pot hole.

• 10.9 million pounds is sold or given to hobbyists for recreational purposes.

Petitioners estimate that no more than one-third of the lead wheel weight market would potentially be changed to lead-free due to the NLFWWI.

Petitioners also point to recent state actions to address wheel balancing weights. The petition notes that on April 28, 2009, the State of Washington instituted a ban on lead wheel balancing weights effective January 1, 2011 and that California, Iowa, and Maine have similar proposals under consideration. The petition also stated that in 2008, Vermont banned lead wheel balancing weights on state-owned vehicles by January 1, 2010 and in new motor vehicles as of January 1, 2011.

IV. EPA Seeks Public Comment

Under TSCA section 21, EPA must either grant or deny a petition within 90 days. EPA is providing this opportunity for the public to comment on, or provide any additional information relevant to, the issues identified in the petition. In order for the Agency to consider such comments within the 90-day petition review period, EPA must receive the comments by July 30, 2009 (see ADDRESSES).

In particular, EPA seeks information on the following:

• Quantitative information, data and/or case examples (e.g., recent scientific and technical studies, including analytical data results, analyses of environmental impacts, and statistical analyses) associated with the potential environmental releases to the air, surface water, ground water, and soil (particularly regarding potential releases within 1 mile of roadways, and potential releases to particularly sensitive environments or human and ecological populations) from lead wheel balancing weights and the following alternatives to lead tire weights: Steel tire weights; zinc alloy wheel balancing weights; plastic metal composite wheel balancing weights; and tin wheel balancing weights.

• Quantitative information and data (scientific and technical studies, including analytical data results, analysis of environmental impacts, statistical analyses, etc.) associated with releases of lead to the air, surface water, ground water, and soil within 1 mile of roadways from wheel balancing weights and all other sources.

• Information on whether the following list of potential exposure routes associated with releases from lead (and other alternative material) wheel balancing weights is complete or accurate, and whether other possible exposure routes associated with such releases should be considered: Dust in and near roadways; dust from roadways migrating to residential front yards, being tracked into houses and inhaled and/or ingested by children; wheel balancing weights and/or particles swept up by municipal street cleaners being incinerated, leading to increased levels of lead in air; wheel balancing weights and/or particles swept up by municipal street cleaners and land filled, leading to increased levels of lead in ground water; vapors from home smelting of used wheel balancing weights obtained from gas stations and small tire retailers; wheel balancing weights left on cars that may be collected and burned in electric arc furnaces, releasing lead vapor and particulate matter to the air; releases associated with auto shredder activities (e.g., residues released to air or water); and releases from roadways to streams resulting in potential exposures to aquatic and terrestrial species.

• Quantitative or anecdotal information on the current availability and suitability of lead-free wheel balancing weights as alternatives, in both original equipment and aftermarket settings, particularly any comparisons between lead-free and lead wheel balancing weights in terms of price, ease of installation, durability, and other attributes of performance and suitability.

In assessing the usability of any data or information that may be submitted, EPA plans to follow the guidelines in EPA's “A Summary of General Assessment Factors for Evaluating the Quality of Scientific and Technical Information” (EPA 100B-03/001), referred to as the “Assessment Factors Document.” The “Assessment Factors Document” was published in the Federal Register issue of July 1, 2003 (68 FR 39086) (FRL-7520-2) and is available on-line at http://www.epa.gov/osa/spc/assess.htm.

List of Subjects

Environmental protection, lead, wheel balancing weights, zinc.

Dated: July 6, 2009.
James Jones,
Acting Assistant Administrator, Office of Prevention, Pesticides and Toxic Substances.

[FR Doc. E9-16815 Filed 7-14-09; 8:45 am]

BILLING CODE 6560-50-S